FEDERAL DEPOSIT INSURANCE CORPORATION

Agency Information Collection Activities: Submission for OMB Review; Comment Request

AGENCY: Federal Deposit Insurance Corporation (FDIC).

ACTION: Notice of information collection to be submitted to the Office of Management and Budget (OMB) for review and approval under the Paperwork Reduction Act.

SUMMARY: In accordance with requirements of the Paperwork Reduction Act (44 U.S.C. 3501-3521), the FDIC hereby gives notice that it is submitting to OMB a request for review and approval of the following collection of information: “Notification of Changes of Insured Status,” OMB No. 3064-0124.

DATES: Comments must be submitted on or before March 25, 2009.

ADDRESSES: Interested parties are invited to submit written comments to the FDIC by any of the following methods. All comments should refer to the name of the collection:

Web site: http://www.FDIC.gov/regulations/laws/federal/notices.html.

E-mail: comments@fdic.gov. Include the name of the collection in the subject line of the message.

Mail: Gary A. Kuiper (202-898-3877), Counsel, Room F-1072, Federal Deposit Insurance Corporation, 550 17th Street, NW., Washington, DC 20429.

Hand Delivery: Comments may be hand-delivered to the guard station at the rear of the 17th Street Building (located on F Street), on business days between 7 a.m. and 5 p.m.

A copy of the comments may also be submitted to the OMB desk officer for the FDIC: Office of Information and Regulatory Affairs, Office of Management and Budget, New Executive Office Building, Washington, DC 20503.

FOR FURTHER INFORMATION CONTACT: Gary A. Kuiper at the address identified above.

SUPPLEMENTARY INFORMATION: Proposal to renew the following currently approved collection of information:

Title: Notification of Changes of Insured Status.

OMB Number: 3064-0124.

Frequency of Response: On occasion.

Affected Public: Insured depository institutions.

Number of Certifications: 280 (Average time to prepare a certification is one quarter hour) for a total of 70 hours. Number of depositor notices: 5 (the average time to prepare a depositor notice is 1 hour) for a total of 5 hours.

Total Annual Burden: 75 hours.

General Description of Collection: The collection involves the certification that insured depository institutions provide the FDIC when they completely assume deposit liabilities from another insured depository institution, and a notification that insured depository institutions provide to the FDIC when they seek to voluntarily terminate their insured status.

Request for Comment

Comments are invited on: (a) Whether this collection of information is necessary for the proper performance of the FDIC's functions, including whether the information has practical utility; (b) the accuracy of the estimates of the burden of the information collection, including the validity of the methodologies and assumptions used; (c) ways to enhance the quality, utility, and clarity of the information to be collected; and (d) ways to minimize the burden of the information collection on respondents, including through the use of automated collection techniques or other forms of information technology. All comments will become a matter of public record.

Dated at Washington, DC, this 17th day of February 2009.
Federal Deposit Insurance Corporation.
Robert Feldman,
Executive Secretary.

[FR Doc. E9-3743 Filed 2-20-09; 8:45 am]

BILLING CODE 6714-01-P